DEPARTMENT OF HEALTH AND HUMAN SERVICES

Administration for Children and Families

[Program Announcement No. OCS 2001-08]

Fiscal Year 2001 Training, Technical Assistance and Capacity-Building Program; Availability of Funds and Request for Applications

Correction

In notice document 01-16447 beginning on page 34996 in the issue of Tuesday, July 2, 2001, make the following corrections:

1. On page 35002, in the table, in the third column, in the second line, 1(²), should read 1(¹).

2. On the same page, in the same table, in the same column, in the 15th line, insert “1”.

[FR Doc. C1-16447 Filed 7-16-01; 8:45 am]

BILLING CODE 1505-01-D

DEPARTMENT OF TRANSPORTATION

Federal Aviation Administration

14 CFR Part 39

[Docket No. 2000-NM-231-AD; Amendment 39-12313; AD 2001-14-03]

RIN 2120-AA64

Airworthiness Directives; McDonnell Douglas Model DC-10-30 Series Airplanes Modified by Supplemental Type Certificate ST00054SE

Correction

In rule document 01-17154 beginning on page 36150, in the issue of Wednesday, July 11, 2001, make the following correction:

On page 36150, in the third column, the docket number is corrected to read as set forth above.

[FR Doc. C1-17154 Filed 7-16-01; 8:45 am]

BILLING CODE 1505-01-D